DEPARTMENT OF HEALTH AND HUMAN SERVICES

Administration for Children and Families

Submission for OMB Review; Proposed Information Collection Activity; The Early Head Start Family and Child Experiences Survey (Baby FACES 2020; OMB #0970-0354)

AGENCY: Office of Planning, Research, and Evaluation; Administration for Children and Families; HHS.

ACTION: Request for public comment.

SUMMARY: The Administration for Children and Families (ACF) at the U.S. Department of Health and Human Services (HHS) seeks approval to collect descriptive information for the Early Head Start Family and Child Experiences Survey 2020 (Baby FACES 2020).

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: This information collection is to provide nationally representative data on Early Head Start (EHS) programs, centers, classrooms, staff, and families to guide program planning, technical assistance, and research. The proposed data collection builds upon a prior round of the study conducted in 2018 (Baby FACES 2018; OMB 0970-0354) that obtained information on EHS programs at a point in time to better understand how program processes support relationships (e.g., between home visitors and parents, between parents and children, and between teachers and children) which are hypothesized to lead to improved child and family outcomes. Baby FACES 2020 has the same goals as Baby FACES 2018, but while the 2018 study focused on classroom-based relationships, the current study will take a closer look at home visiting processes. A new addition for this round is a measure of parent-child interaction which will allow exploration of hypothesized associations between home visitor-parent relationships and parent-child relationships. All other instruments are updates of those approved for the last round in 2018.

Respondents: Early Head Start program directors, child care center directors, teachers and home visitors, and parents of enrolled children.

Annual Burden Estimates
Instrument | Total number of respondents | Annual number of respondents | Number of responses per respondent | Average burden hours per response | Annual burden hours
Classroom/home visitor sampling form (from EHS staff) | 407 | 204 | 1 | .17 | 35
Child roster form (from EHS staff) | 252 | 126 | 1 | .33 | 42
Parent consent form | 2,495 | 1,248 | 1 | .17 | 212
Parent survey | 2,084 | 1,042 | 1 | .53 | 552
Parent Child Report | 2,008 | 1,004 | 1 | .33 | 331
Staff survey (Teacher survey and Home visitor survey) | 1,317 | 659 | 1 | .50 | 330
Staff Child Report | 1,046 | 523 | 2.13 | .25 | 279
Program director survey | 120 | 60 | 1 | .50 | 30
Center director survey | 294 | 147 | 1 | .50 | 74
Parent child interaction | 996 | 498 | 1 | .17 | 85

Estimated Total Annual Burden Hours: 1,970.

Authorities: Sec. 640(a)(2)(D) and Sec. 649 of the Improving Head Start for School Readiness Act.

Sec. 645A and 649 of the Improving Head Start for School Readiness Act of 2007 and the Consolidated Appropriations Act of 2017.

Mary B. Jones,
ACF/OPRE Certifying Officer.

[FR Doc. 2019-15080 Filed 7-15-19; 8:45 am]

BILLING CODE 4184-22-P